NATIONAL SCIENCE FOUNDATION

Emergency Clearance; Public Information Collection Requirements Submitted to the Office of Management and Budget; Notice

AGENCY: National Science Foundation.

ACTION: Emergency Clearance: Public Information Collection Requirements Submitted to the Office of Management and Budget (OMB).

SUMMARY: The National Science Foundation (NSF) is announcing plans to request approval of this collection. In accordance with the requirement of Section 3506(c)(2)(A) of the Paperwork Reduction Act of 1995 (Pub. L. 104-13), we are providing an opportunity for public comment on this action. After obtaining and considering public comment, NSF will prepare the submission requesting that OMB approve clearance of this collection for no longer than 3 years.

DATES: Interested persons are invited to send comments regarding the burden or any other aspect of these collections of information requirements by January 6, 2012.

ADDRESSES: Written comments regarding the information collection and requests for copies of the proposed information collection request should be addressed to Suzanne Plimpton, Reports Clearance Officer, National Science Foundation, 4201 Wilson Blvd., Rm. 295, Arlington, VA 22230, or by email to splimpto@nsf.gov, and Office of Information and Regulatory Affairs, Office of Management and Budget, Room 10235, New Executive Office Building, Washington, DC 20503. Attn: Sharon Mar, NSF Desk Officer.

Comments: Written comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

NSF has determined that it cannot reasonably comply with the normal clearance procedures within 5 CFR part 1320 because normal clearance procedures are reasonably likely to prevent or disrupt the collection of information. NSF is requesting emergency review from OMB of this information collection to assure compliance with the America Competes Act, Public Law 100-69, Section 7027, which calls for a study on laboratory equipment donations for schools. If granted, the emergency approval is only valid for 180 days.

During this same period, a regular review of this information collection will be undertaken. During the regular review period, the NSF requests written comments and suggestions from the public and affected agencies concerning this information collection. Comments are encouraged and will be accepted until February 6, 2012 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-(800) 877-8339, which is accessible 24 hours a day, 7 days a week, 365 days a year (including federal holidays.

SUPPLEMENTARY INFORMATION: Request for Clearance for Study of Laboratory Equipment Donations for Schools.

Title of Collection: Survey of Laboratory Equipment Donations for Schools.

OMB Approval No.: 3145—NEW

Expiration Date of Approval: Not applicable.

Abstract: The National Science Foundation (NSF) requests a three-year clearance for data collection and research related to laboratory equipment donations to schools. The goal of this study is to comply with the America Competes Act, Public Law 100-69, Section 7027, which calls for a study on laboratory equipment donations for schools. The law states: “Not later than 2 years after the date of enactment of this Act, [August 9, 2007], the Director [of the National Science Foundation] shall transmit a report to Congress examining the extent to which institutions of higher education and entities in the private sector are donating used laboratory equipment to elementary schools and secondary schools. The Director * * * shall survey institutions of higher education and entities in the private sector to determine—

(1) How often, how much, and what type of equipment is donated;

(2) What criteria or guidelines the institutions and entities are using to determine what types of equipment can be donated, what condition the equipment should be in, and which schools receive the equipment;

(3) Whether the institutions and entities provide any support to, or follow-up with the schools; and

(4) How appropriate donations can be encouraged.” Under a grant from NSF, the American Institutes for Research (AIR) has designed a sample of institutions of higher education (IHEs) drawn from the Integrated Postsecondary Education Data System (IPEDS) using the 2007-2008 school year. IHEs were selected with Carnegie group (2005) based on their total research spending. The assumption is that schools with higher research spending are most likely to donate equipment, so the sample is weighted to capture IHEs with higher levels of spending.

In addition to IHEs, large corporations that have demonstrated a commitment to science, technology, engineering, and mathematics (STEM) education will also be surveyed. This will be a population survey of members of Change the Equation, an independent non-profit organization that is a component of President Obama's “Educate to Innovate” initiative. These corporations will represent “entities in the private sector” that Congress mandated be surveyed.

Basic analyses will include descriptive statistics on each category of information requested by Congress broken out by Carnegie classification of IHEs, level of IHE research spending, and industry sector and size of private entities. Data will also include summaries of feedback provided by respondents on how appropriate donations can be encouraged. NSF will use the resulting data and analyses primarily to respond to the aforementioned congressional request for information. NSF will also share the information with the educational research community; professional education associations, especially those focused on science, academia; K-12 schools, especially science teachers; and the general public.

Respondents: Individuals, State, Local or Tribal Government, not-for-profit institutions, and for-profit institutions (i.e., corporations). Respondents will be persons representing these entities who have been identified as familiar with their organization's disposal of surplus laboratory equipment.

Estimated Number of Respondents: 400 (300 IHEs and 100 corporations).

Burden on the Public: 400 hours.

Dated: December 2, 2011.
Suzanne Plimpton,
Reports Clearance Officer, National Science Foundation.

[FR Doc. 2011-31366 Filed 12-6-11; 8:45 am]

BILLING CODE 7555-01-P